DEPARTMENT OF THE INTERIOR

National Park Service

Notice of Availability of Draft Director's Order Concerning National Park Service Policy and Procedures for Floodplain Management.

AGENCY: National Park Service, Interior.

ACTION: Notice of availability.

SUMMARY: The National Park Service (NPS) has prepared a draft Director's Order that provides policy and procedures in compliance with Executive Order 11988 (Floodplain Management) for implementing floodplain protection and management actions in units of the National Park System. Executive Order 11988 requires that each agency develop agency-specific guidance for floodplain management. This draft Director's Order will replace all previously issued NPS floodplain management guidance and related instructions. The draft Director's Order maintains the existing NPS policy of preserving floodplain values and minimizing potentially hazardous conditions associated with flooding. When adopted, the policy and procedures will apply to all units and programs of the national park system.

DATES: Written comments will be accepted until February 21, 2003.

ADDRESSES: Submit comments to Gary Smillie via e-mail at gary_smillie@nps.gov; or via ground mail at 1201 Oakridge Drive, Fort Collins, CO 80525; or via telefax at 970-225-9965.

FOR FURTHER INFORMATION CONTACT: This Director's Order (D.O.) and a companion procedural manual will replace floodplain management guidance issued in 1993 for implementing Executive Order 11988, Floodplain Management. Procedures and policies provided in this draft D.O. have been modified and updated but remain similar to the 1993 guidance document. The draft D.O. is consistent with existing requirements, Department of the Interior policy, and the 2001 edition of the NPS Management Policies.

This D.O. will help Park Service field managers meet their responsibilities for implementing the requirements of Executive Order 11988, Floodplain Management. The D.O. will also clarify the responsibilities of key NPS personnel in implementing the floodplain policies and procedures.

Executive Order 11988 requires each agency to have regulations or procedures in place to explain how the agency will pursue the non-hazardous use of floodplains. Because inappropriate floodplain use and development can jeopardize health and safety and result in costly property damage and the loss of important habitat, the Executive Order requires agencies to provide leadership and take action to reduce the risk of flood loss; minimize the impacts of floods; and restore and preserve natural floodplains.

The draft Director's Order and the companion procedural manual (Procedural Manual 77-2) may be viewed on the Internet at www.nps.gov/policy/DOrders/75A.htm and www.nature.nps.gov/manual77-22, respectively. Printed copies may also be requested by contracting Gary Smillie at the address given above.

There may be circumstances in which we would withhold from the record an individual commenter's identity, as allowable by law. If you wish us to withhold your name and/or address, you must state this prominently at the beginning of your comment.

SUPPLEMENTARY INFORMATION: Gary Smillie at 970-225-3522.

Dated: November 26, 2002.
Michael Soukup,
Associate Director for Natural Resource Stewardship and Science.

[FR Doc. 02-32239 Filed 12-20-02; 8:45 am]

BILLING CODE 4310-70-M